DEPARTMENT OF JUSTICE

Notice of Lodging of Consent Decree Under the Clean Air Act

Notice is hereby given that on December 30, 2010, a proposed Consent Decree in United States v. Gasco Energy Inc., et al., Civil Action No. 2:10-CV-01282-PMW, was lodged with the United States District Court for the District of Utah.

In this action the United States seeks civil penalties and injunctive relief for alleged violations of the Clean Air Act (“CAA”), 42 U.S.C. 7401 et seq., at Gasco Energy Inc.'s (“Gasco”) Riverbend compressor station in Uintah County, Utah. Specifically, the United States alleges that Gasco failed to control the emission of hazardous air pollutants (“HAPs”) as required by Section 112 of the CAA, 42 U.S.C. 7412, and 40 CFR part 63, subpart HH (applicable to certain glycol dehydrators at natural gas production facilities) and subpart ZZZZ (applicable to certain reciprocating internal combustion engines at natural gas production facilities). The proposed consent decree would require Gasco to pay a civil penalty of $350,000, comply with regulatory requirements, and make additional reductions in emissions through a requirement to retrofit or replace certain high bleed pneumatic controllers with “low bleed” components.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Gasco Energy Inc., D.J. Ref. No. 90-5-2-1-09483.

The consent decree and associated appendices may be examined on the following Department of Justice Web site: http://www.usdoj.gov/enrd/Consent_Decrees.html. A copy of the consent decree and the associated appendices may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.75 (25 cents per page reproduction cost) payable to the U.S. Treasury or, if by e-mail or fax, forward a check in that amount to the Consent Decree Library at the stated address. All requests for documents should refer to United States v. Gasco Energy Inc., D.J. Ref. No., Civil Action Number 2:10-CV-01282-PMW, and D.J. Ref. No. 90-5-2-1-09483.

Maureen Katz,
Assistant Chief, Environmental Enforcement Section, Environment and Natural Resources Division.

[FR Doc. 2011-824 Filed 1-14-11; 8:45 am]

BILLING CODE 4410-15-P